DEPARTMENT OF ENERGY

Federal Energy Regulatory Commission

[Docket No. AD15-11-000]

Electronic Filing Protocols for Commission Forms; Notice of Meeting of North American Energy Standards Board

Take notice that the North American Energy Standards Board (NAESB) has announced that it will hold its first conference call on August 13, 2015, from 2:00 p.m. to 4:00 p.m. Eastern Time, to initiate its process for developing standards for the submission of Commission forms in XML format. In the Commission's April 16, 2015, Order in this proceeding, the Commission announced it was beginning a process to develop a revised method for natural gas pipelines, public utilities, and oil pipelines to file forms, and asked NAESB and the electric, natural gas, and oil industries to establish a collaborative process with Commission staff to develop standards for filing forms.¹ On June 10, 2015, Commission staff held a technical conference to explore a transition to XML format, as well as NAESB's assistance in that transition process.

¹ Electronic Filing Protocols for Commission Forms, 151 FERC ¶ 61,025 (2015).

After the staff technical conference, the Commission received five comments generally supportive of moving forward with the NAESB process. NAESB has agreed to sponsor this project and the August 13, 2015 conference call is to establish procedures for moving forward. The comments also posed certain questions that should be addressed during the NAESB meetings.

NAESB has posted details regarding the conference at https://www.naesb.org/pdf4/naesb_weq-wgq_ffs_081315ma.pdf. Further information regarding participation can be obtained by contacting NAESB by phone (713-356-0060) or email (naesb@naesb.org).

Commission notices for future meetings will not be issued. The Commission will post the time and dates for future meetings on its Web site at http://www.ferc.gov/docs-filing/forms/eforms-refresh.asp, Information also may be found on the NAESB Web site at https://www.naesb.org/ferc_forms.asp (NAESB Members) or https://www.naesb.org/committee_activities.asp (non-Members).

For more information about this conference call or the proceeding, please contact Robert Hudson, Office of Enforcement, at (202) 502-6620 or Robert.Hudson@ferc.gov or Nicholas Gladd, Office of General Counsel, at (202) 502-8836 or Nicholas.Gladd@ferc.gov.

Dated: July 16, 2015.
Kimberly D. Bose,
Secretary.

[FR Doc. 2015-17947 Filed 7-21-15; 8:45 am]

BILLING CODE 6717-01-P